DEPARTMENT OF HEALTH AND HUMAN SERVICES

Administration for Children and Families

Preliminary Finding of No Significant Impact

AGENCY: Administration on Children, Youth and Families (ACYF), ACF, DHHS.

ACTION: Final Finding of No Significant Impact.

SUMMARY: The Administration for Children and Families published a Notice in the Federal Register on November 9, 2000, (65 FR 67377) notifying interested parties that a Draft Programmatic Environmental Assessment issued by ACF was available for review and comment. The document assessed the environmental impacts of activities undertaken by Head Start and Early Head Start grantees when purchasing, renovating or constructing child care facilities with grant funds. This document was prepared in accordance with the National Environmental Policy Act of 1969, as amended, the regulations of the Council on Environmental Quality (40 CFR 1500-1508), and the Revised General Administration Manual, HHS Part 30, Environmental Protection. ACF received no comments on the Draft Programmatic Environmental Assessment. ACF reviewed the conclusion of the Environmental Assessment (EA), and agreed with its findings.

In the Federal Register on January 25, 2001, (66 FR 7768) ACF invited public comment on a preliminary determination that regulates governing the purchase, construction and renovation of Head Start and Early Head Start child care centers. They will not have a significant impact on the quality of the human environment and that preparation of an environmental impact statement will not be necessary. ACF received no comments on the preliminary determination pertinent to the findings of the Environmental Assessment. ACF is therefore issuing a Final Finding of No Significant Impact by finding that regulations governing the purchase, construction and renovation of Head Start and Early Head Start child care centers will not have a significant impact on the quality of the human environment. ACF finds that the preparation of an environmental impact statement will not be necessary.

DATES: This finding is effective on March 26, 2001.

FOR FURTHER INFORMATION CONTACT: Douglas Klafehn, Acting Associate Commissioner, Head Start Bureau, Administration on Children, Youth and Families, P.O. Box 1182, Washington, DC 20013; (202) 205-8572.

SUPPLEMENTARY INFORMATION: Head Start and Early Head Start are authorized under the Head Start Act (42 U.S.C. 9801 et seq.). It is a national program providing comprehensive developmental services to low-income preschool children, primarily from age three to the age of compulsory school attendance, and their families.

Early Head Start programs enroll children from birth to three years old and pregnant women. To help enrolled children achieve their full potential, Head Start and Early Head Start programs provide comprehensive health, nutritional, educational, social and educational services. ACF has proposed amendments to existing Head Start regulations (45 CFR part 1309) to establish procedures for grantees to apply to use grant funds to cover the cost of constructing and making major renovations to Head Start and Early Head Start facilities and the steps necessary to protect the Federal interest in those facilities. The regulations at 45 CFR part 1309 currently establish procedures for grantees to request to use Head Start and Early Head Start grant funds to purchase facilities and to protect the Federal interest in those facilities. The authority for use of Head Start and Early Head Start grant funds to purchase, construct or undertake major renovations is found in Section 644 (f) and (g) of the Head Start Act.

ACF prepared and published for comment a Draft Environmental Assessment on November 9, 2000, (65 FR 67377). The alternatives assessed included the Proposed Action, which would include the full range of authorized activities including facility purchase, new construction and major renovation. The Alternative Action to the Proposed Action assessed a more restrictive alternative in which only minor construction and renovations would be conducted. The No Action Alternative under which only incidental alterations and renovations would be conducted was also assessed. The assessment considered the Proposed Action, Alternative Action and the No Action Alternative and the effects of each on water quality, air quality, noise, land use, transportation, waste management, human health and safety, soils, vegetation and wildlife, wetlands, cultural resources, socioeconomic factors, environmental justice, recreation, aesthetics, public services and utilities.

ACF has chosen to implement the Proposed Action. Environmental resources may be affected by implementing the Proposed Action and these impacts are analyzed in the Programmatic Environmental Assessment. Given the nationwide nature of this Assessment and the variety of possible environmental conditions, it was not deemed prudent to define the affected environment for all possible sites. Instead, the Assessment identifies circumstances, which may result in significant impacts, which must be avoided or mitigated when costs of purchasing, constructing or making major renovations to a Head Start facility are met with grant funds. In the course of implementing the Proposed Action, there will be some impacts to environmental resources. Most of these impacts, however, are expected to be minimal, largely due to mitigating measures during the site selection, construction, operation and decommissioning phases. In many cases, compliance with State, local and tribal regulations will lead to the avoidance of significant impacts, simply by requiring mitigation or by leading the grantee to select a different site.

The Programmatic Environmental Assessment described the following possible significant impacts and means for mitigating them.

(a) Water Quality—An impact would be considered significant if effluent or pollutant emissions result in exposure of people, wildlife, or vegetation to surface or ground waters that do not meet the standards established under the Clean Water Act, or interfere with State water quality standards. Significant impacts on the environment from operation, construction or renovation will be mitigated by grantees adhering to all State, local and tribal regulations regarding zoning, planning and construction.

(b) Air Quality—An impact would be considered significant if pollutant emissions result in exposure of people, wildlife, or vegetation to ambient air that does not meet the standards established under the Clean Air Act, or interfere with state ambient air quality standards. Significant impacts on the environment will be mitigated by grantees adhering to all State, local and tribal regulations regarding construction and operational emissions.

(c) Noise—An impact would be considered significant if it resulted in exposure of sensitive receptors to a Day-Night Level (DNL) of greater than 65 A-weighted decibels (dBA). A significant impact on the environment from operation, renovation or construction sites can be mitigated by maintaining normal daylight hours for construction and normal operation. Significant impacts on the environment will be mitigated by grantees adhering to all State, local and tribal noise regulations.

(d) Land Use—An impact would be considered significant if the proposed action conflicted with any Federal, regional, State, or local land use plans. If land use patterns are changed in the immediate project area due to the proposed action, the impact would also be considered significant. Significant impacts can be mitigated by requiring grantees to comply with State, local and tribal land use plans and ordinances.

(e) Transportation—An impact would be considered significant if there is a traffic increase, which is predicted to upset the normal flow of traffic, create the need for major road repair as a result of the action, or generate traffic levels requiring the expansion of existing roadways or facilities. Significant impacts can be mitigated by using flaggers on busy roads during construction phases. Transit can be subsidized if a facility is on a major road to discourage automobile use.

(f) Waste Management—An impact would be considered significant if there is an increase in the generation of solid or hazardous waste beyond the present facility capacity or new facility capacity to safely handle and dispose of that waste. Significant impacts will be mitigated by grantees adhering to State, local and tribal regulations and ordinances for waste management.

(g) Human Health and Safety—An impact would be considered significant if there is inadequate protection against serious injury to any worker or user during construction, maintenance, or operation of the project. Exposure to hazardous compounds or fumes at concentrations above health-based levels would be a significant impact. Significant impacts can be mitigated by making use of Head Start provided design guides, and by following State, local and tribal licensing requirements. Grantees will avoid new construction at sites with a history of hazardous material use or storage or sites near pollution sources. As required under 45 CFR 1304.22, all Head Start grantees must establish and implement policies and procedures to respond to medical and dental health emergencies with which all staff are familiar and trained. In addition, all grantees are required to post emergency evacuation routes and other procedures for emergencies, which are practiced regularly.

(h) Soils—An action would cause a significant impact if soil erosion produced gulling, damage to vegetation, or a sustained increase in sedimentation in streams. An action would also constitute a significant impact if the action causes ground fracturing, folding, subsistence or instability. Impacts associated with soil contamination would be significant if the affected area was no longer able to support its current function or vegetative cover. Significant impacts will be mitigated by grantees adhering to all applicable State, local and tribal regulations.

(i) Vegetation and Wildlife—An action would cause a significant impact if the degradation or loss of habitat sufficient to cause indigenous populations to leave or avoid the area occurred. Significant impacts will be avoided by Head Start and Early Head Start grantees choosing sites which do not raise substantial biological concerns.

(j) Wetlands—An action would cause a significant impact if the soil structure, or water related hydrologic features or the vegetation of more than 3 acre (1/10 ha) of a wetland would be altered, or a flood plain area is altered enough to present a reasonable flood danger to the area, or causes the degradation or loss of habitat for populations indigenous to the flood plain area, or prohibits farming activities. Significant impacts will be avoided by Head Start and Early Head Start grantees choosing sites other than wetlands.

(k) Cultural Resources—An impact would be significant if an effect on a historic property occurs that may diminish the integrity of the historic properties location, design, setting, workmanship, feeling or association as set forth in 36 CFR 800.9. Significant impacts will be avoided by Head Start and Early Head Start grantees choosing sites which are not historic sites.

(l) Socioeconomics—A change of more than 2 percent of the previously projected level of local employment, population, or gross domestic product would be considered a significant impact. Also, if school populations decrease by more than 2 percent, revenues decrease by more than 2 percent and if the vacancy rate increased by more than 2 percent, that would constitute a significant impact. Mitigation of significant impacts are not expected to be likely as the impacts in this area are considered to be positive.

(m) Environmental Justice—A significant impact would occur if a disproportionate number of minority and/or low income populations were adversely affected by the project. Mitigation of significant impacts are not expected to be necessary because facilities are not expected to have significant adverse environmental impacts.

(n) Recreation—Significant impacts on recreation facilities and resources would occur when the project conflicts with local, State or tribal recreation plans for the community, or a physical invasion by the project prevents current and/or future recreational use of adjacent properties. Significant impacts will be mitigated by including recreation sites in plans for child care centers to reduce reliance on public resources.

(o) Aesthetics—A significant impact would be the addition, into a predominantly natural setting, of incongruous human-made elements such as structures, noise, trash or pollutants, to the extent that they degrade the enjoyment of the setting for a majority of visitors or residents. Significant impacts will be mitigated by grantees adhering to local or tribal ordinances and regulations on building appearance.

(p) Public Services—An impact would be considered significant if the proposed project inhibited the public services by preventing fire, police, emergency or social services from responding to calls in a timely way or if the project would impose excessive demands on public services.

Significant impacts will be mitigated by grantees using public services in appropriate and responsible ways and by complying with State, local or tribal licensing regulations to reduce dangers of fires or other emergencies.

(q) Utilities—Significant impacts would occur where the proposed project would inhibit the use of such services by any other property owner, or if the project created an unreasonable demand on utility companies. Significant impacts will be mitigated by incorporating energy efficient features in building design.

(r) Cumulative Effects—Considered on a nationwide scale, activities related to the purchase, construction and major renovation of Head Start and Early Head Start facilities are expected to have a negligible cumulative impact.

ACF does not contemplate approving the purchase, construction or major renovation of Head Start or Early Head Start facilities located, or to be located, on wetlands or flood plains, at sites where the project would affect significantly sensitive natural habitats, or at sites where the project would significantly affect historic properties. This policy reflects concern not only with the adverse effects on the environment that selection of such sites would have, but also in recognition of the prohibitive costs, which would likely be incurred in mitigating significant impacts at those sites.

Dated: March 19, 2001.
Diann Dawson,
Acting Principal Deputy Assistant Secretary, Administration for Children and Families.

[FR Doc. 01-7338 Filed 3-23-01; 8:45 am]

BILLING CODE 4184-01-M